DEPARTMENT OF COMMERCE

National Oceanic and Atmospheric Administration

[I.D. 091406A]

Endangered and Threatened Species; Take of Anadromous Fish

AGENCY: National Marine Fisheries Service (NMFS), National Oceanic and Atmospheric Administration (NOAA), Commerce.

ACTION: Receipt of an application for a scientific research permit; request for comments.

SUMMARY: Notice is hereby given that NMFS has received an application for a scientific research permit from the Santa Clara Valley Water District (SCVWD) in Santa Clara County, CA (1121). This document serves to notify the public of the availability of the permit application for review and comment.

DATES: Written comments on the permit application must be received no later than 5 p.m. Pacific Standard Time on October 23, 2006.

ADDRESSES: Comments submitted by e-mail must be sent to the following address: FRNpermits.SR@noaa.gov. The application and related documents are available for review by appointment, for Permit 1121: Protected Resources Division, NMFS, 777 Sonoma Avenue, Room 315, Santa Rosa, CA 95404 (ph: 707-575-6097, fax: 707-578-3435, e-mail: Jeffrey.Jahn@noaa.gov).

FOR FURTHER INFORMATION CONTACT: Jeffrey Jahn at phone number 707-575-6097, or e-mail: Jeffrey.Jahn@noaa.gov.

SUPPLEMENTARY INFORMATION:

Authority

Issuance of permits, as required by the Endangered Species Act of 1973 (16 U.S.C. 1531-1543) (ESA), is based on a finding that such permits: (1) are applied for in good faith; (2) would not operate to the disadvantage of the listed species which are the subject of the permits; and (3) are consistent with the purposes and policies set forth in section 2 of the ESA. Authority to take listed species is subject to conditions set forth in the permits. Permits are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally threatened Central California Coast steelhead (Oncorhynchus mykiss).

Application Received

SCVWD requests a 5-year permit (1121) for take of adult and juvenile Central California Coast steelhead to conduct toxicological monitoring studies in three watersheds in Santa Clara County, California: (1) the Guadalupe River watershed below Alameden, Calero, Guadalupe, Lexington, and Vasona Reservoir, (2) the Coyote Creek watershed below Coyote and Anderson reservoirs, and (3) in the Stevens Creek watershed below Stevens Creek Reservoir. SCVWD requests authorization for an estimated annual non-lethal take 75 juvenile Central California Coast steelhead, with no more than 3 percent unintentional mortality to result from capture (by electrofishing), handling, and release of fish.

SCVWD also requests take of adult Central California Coast steelhead to conduct fish migration studies in the Guadalupe River and Coyote Creek watersheds in Santa Clara County, California. SCVWD requests authorization for an estimated annual non-lethal take of 10 adult Central California Coast steelhead, with no more than 3 percent unintentional mortality to result from capture (by funnel weir-trap), handling, and release of fish.

In addition, SCVWD requests take of adult and juvenile Central California Coast steelhead to conduct fish community assemblage studies in Coyote Creek in Santa Clara County, California. SCVWD request authorization for an estimated annual non-lethal take of 30 adult Central California Coast steelhead and 1,000 juvenile Central California Coast steelhead, with no more than 3 percent unintentional mortality to result from capture (by electrofishing), handling, and release of fish.

Dated: September 18, 2006.
Angela Somma,
Chief, Endangered Species Division, Office of Protected Resources, National Marine Fisheries Service.

[FR Doc. 06-7941 Filed 9-20-06; 8:45 am]

BILLING CODE 3510-22-S